NATIONAL AERONAUTICS AND SPACE ADMINISTRATION

[Notice 04-122]

Notice of Prospective Patent License

AGENCY: National Aeronautics and Space Administration.

ACTION: Notice of prospective patent license.

SUMMARY: NASA hereby gives notice that Kid Saver, Incorporated, of Fort Lauderdale, Florida, has applied for an exclusive license to practice the invention described and claimed in U.S. Patent No. 6,714,132 entitled “Self-Activating System and Method for Alerting When an Object or a Person is Left Unattended,” and NASA Case No. LAR 16324-2 entitled “Self-Activating System and Method for Alerting When an Object or a Person is Left Unattended,” both of which are assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by November 29, 2004.

FOR FURTHER INFORMATION CONTACT: Helen Galus, Patent Attorney, Mail Stop 212, NASA Langley Research Center, Hampton, VA 23681-2199, (757) 864-3227; Fax 757-864-9190.

Dated: November 2, 2004.
Keith T. Sefton,
Deputy General Counsel (Administration and Management).

[FR Doc. 04-25121 Filed 11-10-04; 8:45 am]

BILLING CODE 7510-13-P